DEPARTMENT OF ENERGY

Federal Energy Regulatory Commission

[Docket No. RD15-2-000]

Commission Information Collection Activities (FERC-725G); Comment Request

AGENCY: Federal Energy Regulatory Commission, Energy.

ACTION: Notice of information collection and request for comments.

SUMMARY: In compliance with the requirements of the Paperwork Reduction Act of 1995, 44 U.S.C. 3507(a)(1)(D) and the Office of Management and Budget's implementing regulations, the Federal Energy Regulatory Commission (Commission or FERC) is soliciting public comment on the information collection, FERC-725G (Mandatory Reliability Standards for the Bulk-Power System: PRC Standards), as modified in this docket. The Commission previously published a notice in the Federal Register (80 FR 13528, 3/16/2015) requesting public comments. The Commission received no comments and is making this notation in its submittal to OMB.

DATES: Comments regarding the proposed revision to this information collection must be received on or before June 29, 2015.

ADDRESSES: Comments, identified by Docket Number RD15-2, may be filed in the following ways:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

FOR FURTHER INFORMATION CONTACT: Ellen Brown may be reached by email at DataClearance@FERC.gov, telephone at (202) 502-8663, and fax at (202) 273-0873.

SUPPLEMENTARY INFORMATION:

Title: FERC-725G (Mandatory Reliability Standards for the Bulk-Power System: PRC Standards).

OMB Control No.: 1902-0252.

Type of Request: Three-year extension of the FERC-725G information collection requirements as modified in Docket No. RD15-2.

Abstract: The Commission is submitting Reliability Standard PRC-006-2 to OMB under FERC-725G ¹ for review of the reporting and recordkeeping requirements.

¹ In 2012, the Commission initially approved Reliability Standard PRC-006-1. Automatic Underfrequency Load Shedding and Load Shedding Plans Reliability Standards, Order No. 763, 139 FERC ¶ 61,098, order granting clarification, 140 FERC ¶ 61,164 (2012). The Commission included Reliability Standard PRC-006-1 under FERC-725A (OMB Control No. 1902-0244). The entire burden associated with Reliability Standard PRC-006-2 (for new requirements as well as those unchanged from PRC-006-1) will be added to FERC-725G. In the future, the burden (an estimated 12,672 hours) associated with Reliability Standard PRC-006-1 will be removed from FERC-725A, to remove the temporary double counting of those hours.

The Commission requires the information collected by the FERC-725G to implement the statutory provisions of section 215 of the Federal Power Act (FPA).² On August 8, 2005, Congress enacted into law the Electricity Modernization Act of 2005, which is Title XII, Subtitle A, of the Energy Policy Act of 2005 (EPAct 2005).³ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.⁴

² 16 U.S.C. 824o (2012).

³ Energy Policy Act of 2005, Pub. L. 109-58, Title XII, Subtitle A, 119 Stat. 594, 941 (codified at 16 U.S.C. 824o).

⁴ 16 U.S.C. 824o(e)(3).

On February 3, 2006, the Commission issued Order No. 672, implementing section 215 of the FPA.⁵ Pursuant to Order No. 672, the Commission certified one organization, North American Electric Reliability Corporation (NERC), as the ERO.⁶ The Reliability Standards developed by the ERO and approved by the Commission apply to users, owners and operators of the Bulk-Power System as set forth in each Reliability Standard.

⁵ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁶ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

In Order No. 763, the Commission approved Reliability Standard PRC-006-1, but directed NERC to include explicit language in a subsequent version of the Reliability Standard clarifying that applicable entities are required to implement corrective actions identified by the planning coordinator in accordance with a schedule established by the same planning coordinator.

NERC filed a petition on December 15, 2014 requesting approval of proposed Reliability Standard PRC-006-2 addressing the Commission's directive in Order No. 763. The NERC petition states that the “[p]roposed Reliability Standard PRC-006-2, through proposed new Requirement R15, and proposed enhanced language of the existing Requirements R9 and R10, requires the Planning Coordinator to develop a schedule for implementation of any necessary corrective actions, and requires that the applicable entities will implement these corrective actions according to the schedule established by the Planning Coordinator.”

Reliability Standard PRC-006-2 was approved on 3/4/2015 in a Delegated Order.⁷

⁷ The Order in Docket No. RD15-2 is available at http://elibrary.ferc.gov/idmws/common/opennat.asp?fileID=13793463.

Type of Respondents: Planning coordinators, UFLS entities (as they are defined in the proposed Reliability Standard) and transmission owners that own elements identified in the underfrequency load shedding programs established by the planning coordinators.

Estimate of Annual Burden: ⁸ Our estimate below regarding the number of respondents is based on the NERC compliance registry as of May 5, 2015. According to the NERC compliance registry, there are 80 planning coordinators. The individual burden estimates are based on the time needed to gather data, develop corrective action plans and schedules to perform assessments of the underfrequency load shedding programs. Additionally, documentation and the review of underfrequency load shedding program results by supervisors and management is included in the administrative estimations. These are consistent with estimates for similar tasks in other Commission approved standards.

⁸ The Commission defines “burden” as the total time, effort, or financial resources expended by persons to generate, maintain, retain, or disclose or provide information to or for a federal agency. For additional information, see 5 CFR 1320.3.

Estimates for the additional burden and cost imposed by the order in Docket No. RD15-2-000 follow.⁹

⁹ The only changes to Requirements R9 and R10 and associated measures and evidence retention in Reliability Standard PRC-006-2 (from PRC-006-1) were enhancements to the language which do not impact the cost of implementation. The modifications provide additional clarity and do not affect burden or cost.

¹⁰ The number of respondents is based on the NERC compliance registry as January 30, 2015.

¹¹ The estimates for cost per hour (salary plus benefits) are based on the May 2013 figures of the Bureau of Labor and Statistics (posted as of February 9, 2015 at http://bls.gov/oes/current/naics3_221000.htm).

• $72.92/hour [($84.96 + $60.87)/2], the average of the salary plus benefits for a manager ($84.96/hour) and an electrical engineer ($60.87/hour), is used for the hourly cost for the reporting requirements associated with Requirement R15 and Measure M15.

• $29.01/hour, the salary plus benefits for a file clerk, is used for the hourly cost for the evidence retention requirements associated with Requirement R15 and Measure M15.

¹² The requirements include: Requirement R15 and Measure M15 and evidence retention (planning coordinator that conducts underfrequency load shedding design assessment under Requirements R4, R5, or R12 and determines underfrequency load shedding program does not meet the performance characteristics in Requirement R3, develops corrective action plans and schedule for implementation by UFLS entities within its area).

FERC-725G, as Modified in RD15-2
[Due to approval of PRC-006-2]
| Number and type of respondent ¹⁰ | Annual number of responses per respondent | Total number of responses | Average burden per response (hours) | Total annual burden (hours) | Total annual cost ¹¹
| (1) | (2) | (1)*(2)=(3) | (4) | (3)*(4)=(5) | ($)
Reporting and recordkeeping requirements ¹² | 80 planning coordinators | 1 | 80 | 52 hrs. (47 hrs. for reporting requirements, and 5 hrs. for record retention requirements) | 4,160 hrs. (3,760 hrs. for reporting requirements, and 400 hrs. for record retention requirements) | $285,783 ($274,179 for reporting requirements, and $11,604 for record retention requirements).
Total | 80 planning coordinators |  |  |  | 4,160 | $285,783.

Dated: May 21, 2015.
Kimberly D. Bose,
Secretary.

[FR Doc. 2015-12863 Filed 5-27-15; 8:45 am]

BILLING CODE 6717-01-P